DEPARTMENT OF ENERGY

Federal Energy Regulatory Commission

[Project No. 13417-008]

Western Technical College; ReNew Hydro Power, LLC; Notice of Application for Transfer of License and Soliciting Comments, Motions To Intervene, and Protests

On September 14, 2020, Western Technical College (transferor) and ReNew Hydro Power, LLC (transferee) filed jointly an application for the transfer of license of the Angelo Dam Hydroelectric Project No. 13417. The project is located on the La Crosse River, Monroe County, Wisconsin.

The applicants seek Commission approval to transfer the license for the Angelo Dam Hydroelectric Project from the transferor to the transferee.

Applicants Contact: For transferor: Roger Stanford, President, Western Technical College, 400 7th St. N, La Crosse, WI 54601, Phone: (608) 785-9123.

For transferee: Christopher or Beth Cutts, Manager, ReNew Hydro Power, LLC, W7547 County Road P., Wild Rose, WI 54984, Phone: (920) 765-2193.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-13417-008. Comments emailed to Commission staff are not considered part of the Commission record.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Dated: October 14, 2020.
Kimberly D. Bose,
Secretary.

[FR Doc. 2020-23158 Filed 10-19-20; 8:45 am]

BILLING CODE 6717-01-P